DEPARTMENT OF ENERGY

Office of Energy Efficiency and Renewable Energy

[Case No. RF-043]

Energy Conservation Program for Consumer Products: Decision and Order Granting a Waiver to Panasonic Appliances Refrigeration Systems Corporation of America Corporation (PAPRSA) From the Department of Energy Refrigerator and Refrigerator-Freezer Test Procedures

AGENCY: Office of Energy Efficiency and Renewable Energy, Department of Energy.

ACTION: Decision and Order.

SUMMARY: The U.S. Department of Energy (“DOE”) gives notice of a Decision and Order (Case No. RF-043) that grants to Panasonic Appliances Refrigeration Systems Corporation of America (“PAPRSA”) a waiver from the DOE test procedure for determining the energy consumption of electric refrigerators and refrigerator-freezers. Under this Decision and Order, PAPRSA is required to test and rate specified basic models of its combination cooler-refrigerators in accordance with the applicable DOE test procedure, with the exception that it must calculate energy consumption using a correction factor (“K-factor”) of 0.85.

DATES: This Decision and Order is effective May 5, 2017. This Decision and Order will terminate on October 28, 2019, in conjunction with the compliance of the recently published standards for miscellaneous refrigeration products. Testing to demonstrate compliance with those standards, and any other representations of energy use made on or after October 28, 2019, will require manufacturers to use the relevant test procedure for these products.

FOR FURTHER INFORMATION CONTACT: Mr. Bryan Berringer, U.S. Department of Energy, Building Technologies Program, Mail Stop EE-5B, Forrestal Building, 1000 Independence Avenue SW., Washington, DC 20585-0121. Telephone: (202) 586-0371. Email: AS_Waiver_Requests@ee.doe.gov.

Mr. Michael Kido, U.S. Department of Energy, Office of the General Counsel, Mail Stop GC-33, Forrestal Building, 1000 Independence Avenue SW., Washington, DC 20585-0103. Telephone: (202) 586-8145. Email: Michael.Kido@hq.doe.gov.

SUPPLEMENTARY INFORMATION: In accordance with Title 10 of the Code of Federal Regulations (10 CFR 430.27(f)(2)), DOE gives notice of the issuance of its Decision and Order as set forth below. The Decision and Order grants PAPRSA a waiver from the applicable test procedure in 10 CFR part 430, subpart B, appendix A for certain basic models of combination cooler-refrigerators provided that PAPRSA tests and rates such products using the alternate test procedure described in this notice. PAPRSA's representations concerning the energy efficiency of these products must be based on testing consistent with the provisions and restrictions in the alternate test procedure set forth in the Decision and Order below, and the representations must fairly disclose the test results. Distributors, retailers, and private labelers are held to the same standard when making representations regarding the energy efficiency of these products. 42 U.S.C. 6293(c).

Consistent with 10 CFR 430.27(j), not later than July 5, 2017, any manufacturer currently distributing in commerce in the United States a product employing a technology or characteristic that results in the same need for a waiver from the applicable test procedure must submit a petition for waiver. Manufacturers not currently distributing such products in commerce in the United States must petition for and be granted a waiver prior to the distribution in commerce of those products in the United States. Manufacturers may also submit a request for interim waiver pursuant to the requirements of 10 CFR 430.27.

Issued in Washington, DC, on April 28, 2017.
Kathleen Hogan,
Deputy Assistant Secretary for Energy Efficiency, Energy Efficiency and Renewable Energy.

Decision and Order

In the Matter of: Panasonic Appliances Refrigeration Systems Corporation of America (PAPRSA) (Case No. RF-043).

I. Background and Authority

Title III, Part B of the Energy Policy and Conservation Act of 1975 (EPCA) (42 U.S.C. 6291-6309) established the Energy Conservation Program for Consumer Products Other Than Automobiles, a program that includes residential refrigerators and refrigerator-freezers.¹ Part B includes definitions, test procedures, labeling provisions, energy conservation standards, and the authority to require information and reports from manufacturers. Further, Part B authorizes the Secretary of Energy to prescribe test procedures that are reasonably designed to produce results measuring energy efficiency, energy use, or estimated operating costs, and that are not unduly burdensome to conduct. (42 U.S.C. 6293(b)(3)) The test procedure for residential refrigerators and refrigerator-freezers is contained in 10 CFR part 430, subpart B, appendix A.

¹ For editorial reasons, upon codification in the U.S. Code, Part B was re-designated Part A.

The regulations set forth in 10 CFR 430.27 contain provisions that allow a person to seek a waiver from the test procedure requirements for a particular basic model of a type of covered product when the petitioner's basic model for which the petition for waiver was submitted contains one or more design characteristics that: (1) Prevent testing according to the prescribed test procedure, or (2) cause the prescribed test procedures to evaluate the basic model in a manner so unrepresentative of its true energy consumption characteristics as to provide materially inaccurate comparative data. 10 CFR 430.27(a)(1). DOE may grant the waiver subject to conditions, including adherence to alternate test procedures. 10 CFR 430.27(f)(2). DOE recently published standards for miscellaneous refrigeration products (“MREFs”). See 81 FR 75194 (Oct. 28, 2016). Testing to demonstrate compliance with those standards will require manufacturers to use the MREF test procedure established in a final rule published in July 2016. See 81 FR 46768 (July 18, 2016) (MREF coverage determination and test procedure final rule) and 81 FR 49868 (July 29, 2016) (MREF test procedure final rule correction notice). Under these rules, DOE has determined that products such as those that are at issue here fall into the MREF category. Accordingly, consistent with these MREF-specific provisions, these products will be evaluated under prescribed procedures and against specified standards that are tailored to account for their particular characteristics.

II. PAPRSA's Petition for Waiver: Assertions and Determinations

On August 21, 2015, PAPRSA requested an extension of its previous waivers (Case Nos. RF-022, RF-031 and RF-041) under 10 CFR 430.27(g) for its combination cooler-refrigerator basic model, PR6180WBC, which is required to be tested using the test procedure detailed at appendix A to subpart B of 10 CFR part 430 (appendix A). At the time of the request for extension, Appendix A required measuring the energy consumption of refrigerators using a standardized compartment temperature of 39 degrees Fahrenheit (°F). PAPRSA, consistent with its prior waiver requests, seeks to use a modified version of the test procedure that would specify a higher standardized temperature for testing wine chiller compartments and a correction factor of 0.85 when calculating energy consumption.

In its petition, PAPRSA requested an extension of the waivers DOE granted in 2012 (under PAPRSA's previous corporate name, Sanyo E&E Corporation) (Case No. RF-022, 77 FR 49443 (August 16, 2012)), in 2013 (Case No. RF-031, 78 FR 57139 (September 17, 2013)), and 2014 (Case No. RF-041, 79 FR 55769 (September 17, 2014)). On October 4, 2012, DOE issued a notice of correction to this Decision and Order by incorporating a K-factor (correction factor) value of 0.85 when calculating the energy consumption of the affected models. (77 FR 60688) DOE also previously granted a similar waiver to Sub-Zero Group Inc. through an interim waiver (79 FR 55772 (September 17, 2014)) and a subsequent Decision and Order (80 FR 7854 (February 12, 2015)) under Case No. RF-040.

On January 26, 2016, DOE issued a proposed modification of its prior waivers and granted PAPRSA with an interim waiver (81 FR 4270) that consolidated all of the basic models under one, new, corrected interim waiver, subject to comment. DOE did not receive any comments on the PAPRSA request or the interim waiver.

DOE has reviewed the alternate procedure and believes that, as corrected, the formulas will allow for the accurate measurement of the energy use of these products, while alleviating the testing problems associated with PAPRSA's combination cooler-refrigerator basic models. However, DOE has identified additional formulas in appendix A that, for purposes of this waiver, should incorporate the 0.85 correction factor. DOE has also clarified the sections within appendix A for which the alternate calculations apply. DOE has included those updated formulas as part of this decision and order.

III. Consultations With Other Agencies

DOE consulted with the Federal Trade Commission (“FTC”) staff concerning the PAPRSA petition for waiver. The FTC staff did not have any objections to granting a waiver to PAPRSA.

IV. Order

After careful consideration of all the material that was submitted by PAPRSA and consultation with the FTC staff, in accordance with 10 CFR 430.27, it is Ordered that:

(1) The petition for waiver submitted by the PAPRSA. (Case No. RF-043) is hereby granted as set forth in the paragraphs below.

(2) PAPRSA must test and rate the PAPRSA basic models specified in paragraph (3) on the basis of the current test procedure contained in 10 CFR part 430, subpart B, appendix A, with the exception that it must calculate energy consumption using a correction factor (“K-factor”) of 0.85.

Therefore, the energy consumption is defined by:

If compartment temperatures are below their respective standardized temperatures for both test settings (according to 10 CFR part 430, subpart B, appendix A, sec. 6.2.4.1): E = (ET1 × 0.85) + IET.

If compartment temperatures are not below their respective standardized temperatures for both test settings, the higher of the two values calculated by the following two formulas (according to 10 CFR part 430, subpart B, appendix A, sec. 6.2.4.2):

Energy consumption of the “cooler compartment”: ECooler Compartment = (ET1 + [(ET2-ET1) × (55 °F-TC1)/(TC2-TC1)]) × 0.85 + IET

Energy consumption of the “fresh food compartment”: EFreshFood Compartment = (ET1 + [(ET2-ET1) × (39 °F-TR1)/(TR2-TR1)]) × 0.85 + IET.

(3) This Order applies to basic models PR6180WBC, KBCS24RSBS, SR6180BC,² SR5180JBC, and PR5180JKBC.

² DOE notes that PAPRSA's petition in Case No. RF-022 identified the relevant basic models as: JUB248LB,

JUB248RB, JUB248LW, JUB248RW, KBCO24LS, KBCS24LS, KBCO24RS, KBCS24RS, and MBCM24FW. Upon further review, however, DOE has determined that these are individual model, rather than basic model, number designations. The correct basic model designations, as determined through a review of PAPRSA's filings with DOE's Compliance Certification Management System, are KBCS24RSBS (which covers all of these individual model designations except for MBCM24FW) and SR6180BC (which covers MBCM24FW).

(4) Representations. PAPRSA may make representations about the energy use of the specified basic models of its combination cooler-refrigerator products for compliance, marketing, or other purposes only to the extent that such products have been tested in accordance with the provisions outlined above and such representations fairly disclose the results of such testing.

(5) This Decision and Order will terminate on October 28, 2019, in conjunction with the compliance date of the recently published standards for miscellaneous refrigeration products (“MREFs”). See 81 FR 75194 (Oct. 28, 2016). Starting on October 28, 2019, testing to demonstrate compliance with those standards must be performed in accordance with the MREF test procedure final rule. See 81 FR 46768 (July 18, 2016) (MREF test procedure final rule) and 81 FR 49868 (July 29, 2016) (MREF test procedure final rule correction notice).

(6) This waiver is issued on the condition that the statements, representations, and documentary materials provided by the petitioner are valid. DOE may revoke or modify this waiver at any time if it determines the factual basis underlying the petition for waiver is incorrect, or the results from the alternate test procedure are unrepresentative of the basic models' true energy consumption characteristics.

(7) Grant of this extension does not release a petitioner from the certification requirements set forth at 10 CFR part 429.

Issued in Washington, DC, on April 28, 2017.
Kathleen B. Hogan,
Deputy Assistant Secretary for Energy Efficiency, Energy Efficiency and Renewable Energy.

[FR Doc. 2017-09129 Filed 5-4-17; 8:45 am]

BILLING CODE 6450-01-P